DEPARTMENT OF JUSTICE

Drug Enforcement Administration

Importer of Controlled Substances; Notice of Registration; Research Triangle Institute

Correction

In notice document 2012-19208 appearing on pages 47111-47114 in the issue of Tuesday, August 7, 2012, make the following correction:

On page 47111, in the second column, the document heading should appear as set forth above.

[FR Doc. C1-2012-19208 Filed 8-17-12; 8:45 am]

BILLING CODE 1505-01-D